DEPARTMENT OF HEALTH AND HUMAN SERVICES

National Institutes of Health

National Institute of Environmental Health Sciences; Notice of Closed Meeting

Pursuant to section 10(d) of the Federal Advisory Committee Act, as amended (5 U.S.C. Appendix 2), notice is hereby given of the following meeting.

The meeting will be closed to the public in accordance with the provisions set forth in section 552b(c)(6), Title 5 U.S.C., as amended. The contract proposals and the discussions could disclose confidential trade secrets or commercial property such as patentable material, and personal information concerning individuals associated with the contract proposals, and disclosure of which would constitute a clearly unwarranted invasion of personal privacy.

Name of Committee: National Institute of Environmental Health Sciences Special Emphasis Panel, Review of Loan Repayment Proposals.

Date: May 10, 2002.

Time: 9 a.m. to 10 a.m.

Agenda: To review and evaluate contract proposals.

Place: Nat. Institute of Environmental Health Sciences, Bldg. 4401, Room 3435, 79 T. W. Alexander Drive, Research Triangle Park, NC 27709. (Telephone Conference Call).

Contact Person: Anne P. Sassaman, PhD, Director, Division of Extramural Research and Training, Nat. Institute of Environmental Health Sciences, National Institutes of Health, P.O. Box 12233, MD EC-20, Research Triangle Park, NC 27709. 919/541-7723.

(Catalogue of Federal Domestic Assistance Program Nos. 93.113, Biological Response to Environmental Health Hazards; 93.114, Applied Toxicological Research and Testing; 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences, National Institutes of Health, HHS)

Dated: April 12, 2002.
LaVerne Y. Stringfield,
Director, Office of Federal Advisory Committee Policy.

[FR Doc. 02-9428 Filed 4-17-02; 8:45 am]

BILLING CODE 4140-01-M